NEIGHBORHOOD REINVESTMENT CORPORATION

Sunshine Act Meetings

TIME AND DATE: 2:00 p.m., Friday, August 5, 2022.

PLACE: Via conference call.

STATUS: This meeting will be open to the public.

MATTERS TO BE CONSIDERED: Special Board of Directors meeting.

Agenda

I. Call To Order

II. Waiver of Notice for Special Board of Directors Meeting

III. Discussion DC Office End of Life IT Infrastructure and Request for Budget Authority

IV. Adjournment

CONTACT PERSON FOR MORE INFORMATION: Lakeyia Thompson, Special Assistant, (202) 524-9940; lthompson@nw.org.

Lakeyia Thompson,
Special Assistant.

[FR Doc. 2022-17048 Filed 8-4-22; 4:15 pm]

BILLING CODE 7570-02-P